DEPARTMENT OF THE INTERIOR

Geological Survey

[GX19NM00FU5010; OMB Control Number 1028-0094/Renewal]

Agency Information Collection Activities; Submission to the Office of Management and Budget for Review and Approval; National Coal Resources Data System

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before August 15, 2019.

ADDRESSES: Send written comments on this information collection request (ICR) to the Office of Management and Budget's Desk Officer for the Department of the Interior by email at OIRA_Submission@omb.eop.gov; or via facsimile to (202) 395-5806. Please provide a copy of your comments to U.S. Geological Survey, Information Collections Officer, 12201 Sunrise Valley Drive, MS 159, Reston, VA 20192; or by email to gs-info_collections@usgs.gov. Please reference OMB Control Number 1028-0094 in the subject line of your comments.

FOR FURTHER INFORMATION CONTACT: To request additional information about this ICR, contact Joseph East, Eastern Energy Resources Science Center, by email at jeast@usgs.gov, or by telephone at 703-648-6450. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 8, 2019, 84 FR 20161. No comments were received.

We are again soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The primary objective of the U.S. Geological Survey (USGS) National Coal Resources Data System (NCRDS) is to advance the understanding of the energy endowment of the United States by gathering and organizing digital geologic information related to coal, coal bed gas, shale gas, conventional and unconventional oil and gas, geothermal, and other energy resources and related information regarding these resources, along with environmental impacts from using these resources. These data are needed to support regional or national assessments concerning energy resources. Requesting external cooperation is a way for NCRDS to collect energy data and perform research and analyses on the characterization of geologic material, and obtain other information (including geophysical or seismic data, sample collection for generation of thermal maturity data) that can be used in energy resource assessments and related studies.

The USGS will issue a call for proposals to support researchers from State Geological Surveys and associated accredited universities that can provide geologic data to support NCRDS and other energy assessment projects being conducted by the USGS.

Data submitted to NCRDS by external cooperators constitute more than two-thirds of the USGS point-source stratigraphic database (USTRAT) on coal occurrence. This program is conducted under various authorities, including 30 U.S.C. 208-1, 42 U.S.C. 15801, and 43 U.S.C. 31 et seq. This collection will consist of applications, proposals and reports (annual and final).

Title of Collection: National Coal Resources Data System (NCRDS).

OMB Control Number: 1028-0094.

Form Number: None.

Type of Review: Extension of a currently approved collection.

Respondents/Affected Public: Individuals; State, local and tribal governments; State Geological Surveys, universities, and businesses.

Total Estimated Number of Annual Respondents: 21.

Total Estimated Number of Annual Responses: 21.

Estimated Completion Time per Response: 25 hours.

Total Estimated Number of Annual Burden Hours: 525 Hours.

Respondent's Obligation: Required to Obtain or Retain a Benefit.

Frequency of Collection: Annually for progress reports.

Total Estimated Annual Nonhour Burden Cost: There are no “non-hour cost” burdens associated with this IC.

An agency may not conduct or sponsor and a person is not required to respond to a collection of information unless it displays a currently valid OMB control number.

The authority for this action is the Paperwork Reduction Act of 1995 (44 U.S.C. 3501 et seq.).

Margo Corum,
Associate Program Coordinator.

[FR Doc. 2019-15057 Filed 7-15-19; 8:45 am]

BILLING CODE 4338-11-P